DEPARTMENT OF COMMERCE

International Trade Administration

[A-570-040]

Truck and Bus Tires From the People's Republic of China: Amended Preliminary Affirmative Determination of Sales at Less Than Fair Value

AGENCY: Enforcement and Compliance, International Trade Administration, Department of Commerce.

SUMMARY: On September 6, 2016, the Department of Commerce (the Department) published the preliminary determination of sales at less than fair value (LTFV) in the LTFV investigation of truck and bus tires from the People's Republic of China (the PRC). We are amending our preliminary determination to correct two ministerial errors which are significant in combination.

DATES: Effective October 14, 2016.

FOR FURTHER INFORMATION CONTACT: Yang Jin Chun or Andre Gziryan, AD/CVD Operations Office I, Enforcement and Compliance, International Trade Administration, U.S. Department of Commerce, 1401 Constitution Avenue NW., Washington, DC 20230; telephone: (202) 482-5760 and (202) 482-2201, respectively.

SUPPLEMENTARY INFORMATION:

Background

On September 6, 2016, the Department published the preliminary determination that truck and bus tires from the PRC are being sold in the United States at LTFV, as provided in section 733 of the Tariff Act of 1930, as amended (the Act).¹ On September 6, 2016, the Department received timely filed allegations of ministerial errors in the Preliminary Determination.²

¹ See Truck and Bus Tires From the People's Republic of China: Preliminary Affirmative Determinations of Sales at Less Than Fair Value and Critical Circumstances, and Postponement of Final Determination, 81 FR 61186 (September 6, 2016) (Preliminary Determination).

² See the ministerial error allegations from the petitioner and Prinx Chengshan (Shandong) Tire Co., Ltd. (PCT) dated September 6, 2016. The petitioner in this investigation is United Steel, Paper and Forestry, Rubber, Manufacturing, Energy, Allied Industrial and Service Workers International Union, AFL-CIO, CLC.

Period of Investigation

The period of investigation is July 1, 2015, through December 31, 2015.

Scope of the Investigation

The products covered by this investigation are truck and bus tires. For a full description of the scope of this investigation, see the “Scope of the Investigation” in the Appendix of this notice.

Analysis of Significant Ministerial Error Allegation

The Department will analyze any comments received and, if appropriate, correct any significant ministerial error by amending the preliminary determination according to 19 CFR 351.224(e). A ministerial error is defined as “an error in addition, subtraction, or other arithmetic function, clerical error resulting from inaccurate copying, duplication, or the like, and any other similar type of unintentional error which the Secretary considers ministerial.” ³ A significant ministerial error is defined as a ministerial error, the correction of which, singly or in combination with other errors, would result in: (1) A change of at least five absolute percentage points in, but not less than 25 percent of, the weighted-average dumping margin calculated in the original (erroneous) preliminary determination; or (2) a difference between a weighted-average dumping margin of zero or de minimis and a weighted-average dumping margin of greater than de minimis or vice versa.⁴

³ See section 735(e) of the Act.

⁴ See 19 CFR 351.224(g).

Pursuant to 19 CFR 351.224(e) and (g)(1), the Department is amending the Preliminary Determination to reflect the correction of two ministerial errors it made in the calculation of the estimated weighted-average dumping margin for PCT, a mandatory respondent.⁵ The combination of these two errors constitutes a significant ministerial error within the meaning of 19 CFR 351.224(g) because PCT's margin increased from 20.87 percent to 30.36 percent as a result of correcting these two ministerial errors, exceeding the significant threshold with a change of at least five absolute percentage points and more than 25 percent of the estimated weighted-average dumping margin.

⁵ See Memorandum from Senior Director James Maeder to Deputy Assistant Secretary Christian Marsh entitled, “Less-Than-Fair-Value Investigation of Truck and Bus Tires from the People's Republic of China: Allegations of Ministerial Errors in the Preliminary Determination,” dated concurrently with and hereby adopted by this notice.

Because PCT is the only mandatory respondent eligible for a separate rate, PCT is the only respondent for which we individually calculated an estimated weighted-average dumping margin. For this reason, we assigned PCT's calculated rate to all non-examined separate rate respondents. With this amended preliminary determination, the estimated weighted-average dumping margin for each non-examined separate rate respondent is also amended to 30.36 percent.

In the Preliminary Determination, because the rate individually calculated for PCT was lower than the highest dumping margin alleged in the petition, we used the highest petition rate of 22.57 percent as the adverse facts available (AFA) applied to the PRC-wide entity. Because PCT's amended preliminary estimated weighted-average dumping margin is now higher than the highest dumping margin alleged in the petition, the AFA rate applied to the PRC-wide entity will also be 30.36 percent.⁶ Because we are relying on information obtained in the course of this investigation on which to base this rate, not on secondary information, it is not necessary to corroborate this calculated rate as AFA.⁷

⁶ See Preliminary Determination and accompanying Preliminary Decision Memorandum at 20 (“In an investigation, the Department's practice with respect to the assignment of an AFA rate is to select the higher of (1) the highest dumping margin alleged in the petition or (2) the highest calculated dumping margin of any respondent in the investigation.”) (citation omitted).

⁷ See 1,1,1,2-Tetrafluroethane From the People's Republic of China: Final Determination of Sales at Less Than Fair Value, 79 FR 62597 (October 20, 2014), and accompanying Issues and Decision Memorandum at 3. See also section 776(c) of the Act and 19 CFR 351.308(c) and (d).

Amended Cash Deposits and Suspension of Liquidation

The collection of cash deposits and suspension of liquidation will be revised accordingly, in accordance with section 733(d) and (f) of the Act and 19 CFR 351.224. The amended cash deposit rate will be 29.95 percent after the deduction of the export subsidy rate of 0.41 percent from 30.36 percent.⁸ Because it is an increase from the Preliminary Determination, the amended cash deposit rate will be effective on the date of publication of this notice in the Federal Register.

⁸ See Preliminary Determination, 81 FR at 61191.

Amended Preliminary Determination

The Department preliminarily determines that the following estimated weighted-average dumping margins exist:

Exporter | Producer | Weighted average dumping margin (percent)
Prinx Chengshan (Shandong) Tire Co., Ltd. | Prinx Chengshan (Shandong) Tire Co., Ltd. | 30.36
Actyon Tyre Resources Co., Limited | Chao Yang Long March Tyre Co., Ltd. | 30.36
Actyon Tyre Resources Co., Limited | Shandong Haohua Tires Co., Ltd. | 30.36
Actyon Tyre Resources Co., Limited | Shandong Longyue Rubber Co., Ltd. | 30.36
Aosen Tire Co., Ltd. | Qingdao Taifa Group Co., Ltd. | 30.36
Aosen Tire Co., Ltd. | Shandong Chuanghua Tire Co., Ltd. | 30.36
Aosen Tire Co., Ltd. | Shandong Hawk International Rubber Industry Co., Ltd. | 30.36
Aosen Tire Co., Ltd. | Shandong Hugerubber Co., Ltd. | 30.36
Aosen Tire Co., Ltd. | Shandong Yongsheng Rubber Group Co., Ltd. | 30.36
Aosen Tire Co., Ltd. | Shandong Zhentai Group Co., Ltd. | 30.36
Beijing BOE Commerce Co., Ltd. | China National Tyre & Rubber Guilin Co., Ltd. | 30.36
Beijing BOE Commerce Co., Ltd. | Shandong Hawk International Rubber Industry Co., Ltd. | 30.36
Best Choice International Trade Co., Ltd. | Aeolus Tyre Co., Ltd. | 30.36
Best Choice International Trade Co., Ltd. | Qingdao Yellow Sea Rubber Co., Ltd. | 30.36
Best Choice International Trade Co., Ltd. | Shan Dong Kaixuan Rubber Co., Ltd. | 30.36
Best Choice International Trade Co., Ltd. | Sichuan Kalevei Technology Co., Ltd. | 30.36
Best Choice International Trade Co., Ltd. | ZC Rubber Group Co., Ltd. | 30.36
Bestyre International Industrial Limited | Chaoyang Long March Tyre Co., Ltd. | 30.36
Bestyre International Industrial Limited | Chaoyang Long March Tyre New Co., Ltd. | 30.36
BOE Commerce Co., Ltd. | Aeolus Tyre Co., Ltd. | 30.36
BOE Commerce Co., Ltd. | China National Tyre & Rubber Guilin Co., Ltd. | 30.36
BOE Commerce Co., Ltd. | Shandong Anchi Tyres Co., Ltd. | 30.36
BOE Commerce Co., Ltd. | Shandong Hawk International Rubber Industry Co., Ltd. | 30.36
BOE Commerce Co., Ltd. | Shandong Hengyu Rubber Co., Ltd. | 30.36
BOE Commerce Co., Ltd. | Shandong Hengyu Science & Technology Co., Ltd. | 30.36
BOE Commerce Co., Ltd. | Shandong Jinyu Tyre Co., Ltd. | 30.36
BOE Commerce Co., Ltd. | Zhucheng Guoxin Rubber Co., Ltd. | 30.36
Briway Tire Co., Ltd. | Shandong Kaixuan Rubber Co., Ltd. | 30.36
Briway Tire Co., Ltd. | Shandong Province Sanli Tire Manufactured Co., Ltd. | 30.36
Briway Tire Co., Ltd. | Shandong Vheal Group Co., Ltd. | 30.36
Briway Tire Co., Ltd. | Shandong Wanda Boto Tyre Co., Ltd. | 30.36
Briway Tire Co., Ltd. | Shandong Yinbao Tyre Group Co., Ltd. | 30.36
Briway Tire Co., Ltd. | Shandong Yuelong Group | 30.36
Briway Tire Co., Ltd. | Sichuan Tyre & Rubber Co., Ltd. | 30.36
Briway Tire Co., Ltd. | Weifang Shunfuchang Rubber and Plastic Products Co., Ltd. | 30.36
Briway Tire Co., Ltd. | Sichuan Kalevei Technology Co., Ltd. | 30.36
Chonche Auto Double Happiness Tyre Corp. Ltd. | Chonche Auto Double Happiness Tyre Corp. Ltd. | 30.36
Chongqing Hankook Tire Co., Ltd. | Chongqing Hankook Tire Co., Ltd. | 30.36
Cooper Tire (China) Investment Co., Ltd. | Qingdao Ge Rui Da Rubber Co., Ltd. | 30.36
Daking Industrial Co., Limited | Shandong Huasheng Rubber Co., Ltd. | 30.36
Fleming Limited | Qingdao Doublestar Tire Industrial Co., Ltd. | 30.36
Fleming Limited | Qingdao Yellow Sea Rubber Co., Ltd. | 30.36
Fleming Limited | Shandong Wanshine Tire Co., Ltd. | 30.36
Fleming Limited | Shandong Yinbao Tyre Group Co., Ltd. | 30.36
Giti Tire (Anhui) Company Ltd. | Giti Tire (Anhui) Company Ltd. | 30.36
Giti Tire (Anhui) Company Ltd. | Giti Tire (Fujian) Company Ltd. | 30.36
Giti Tire (Anhui) Company Ltd. | Giti Tire (Yinchuan) Company Ltd. | 30.36
Giti Tire (Fujian) Company Ltd. | Giti Tire (Anhui) Company Ltd. | 30.36
Giti Tire (Fujian) Company Ltd. | Giti Tire (Fujian) Company Ltd. | 30.36
Giti Tire (Fujian) Company Ltd. | Giti Tire (Yinchuan) Company Ltd. | 30.36
Giti Tire (Yinchuan) Company Ltd. | Giti Tire (Anhui) Company Ltd. | 30.36
Giti Tire (Yinchuan) Company Ltd. | Giti Tire (Fujian) Company Ltd. | 30.36
Giti Tire (Yinchuan) Company Ltd. | Giti Tire (Yinchuan) Company Ltd. | 30.36
Giti Tire Global Trading Pte. Ltd. | Giti Tire (Anhui) Company Ltd. | 30.36
Giti Tire Global Trading Pte. Ltd. | Giti Tire (Fujian) Company Ltd. | 30.36
Giti Tire Global Trading Pte. Ltd. | Giti Tire (Yinchuan) Company Ltd. | 30.36
Goodyear Dalian Tire Co., Ltd. | Goodyear Dalian Tire Co., Ltd. | 30.36
Hongkong Tiancheng Investment & Trading Co., Limited | Shandong Linglong Tyre Co., Ltd. | 30.36
Hongtyre Group Co. | Prinx Chengshan (Shandong) Tire Co., Ltd. | 30.36
Hongtyre Group Co. | Shandong Bayi Tyre Manufacture Co., Ltd. | 30.36
Jiangsu General Science Technology Co., Ltd. | Jiangsu General Science Technology Co., Ltd. | 30.36
Jiangsu Hankook Tire Co., Ltd. | Jiangsu Hankook Tire Co., Ltd. | 30.36
Koryo International Industrial Limited | Chaoyang Long March Tyre Co., Ltd. | 30.36
Koryo International Industrial Limited | Shandong Anchi Tyres Co., Ltd. | 30.36
Koryo International Industrial Limited | Shandong Hugerubber Co., Ltd. | 30.36
Koryo International Industrial Limited | Shandong Sangong Rubber Co., Ltd. | 30.36
Koryo International Industrial Limited | Shandong Wanshine Tire Co., Ltd. | 30.36
Koryo International Industrial Limited | Sichuan Tyre & Rubber Co., Ltd. | 30.36
Kumho Tire Co., Inc. | Nanjing Kumho Tire Co., Ltd. | 30.36
Longkou Xinglong Tyre Co., Ltd. | Longkou Xinglong Tyre Co., Ltd. | 30.36
Maxon Int'l Co., Limited | Shandong Anchi Tyres Co., Ltd | 30.36
Maxon Int'l Co., Limited | Triangle Tyre Co., Ltd. | 30.36
Megalith Industrial Group Co., Ltd. | Ningxia Shenzhou Tire Co., Ltd. | 30.36
Megalith Industrial Group Co., Ltd. | Shaanxi Yanchang Petroleum Group Rubber Co., Ltd. | 30.36
Megalith Industrial Group Co., Ltd. | Shandong Hawk International Rubber Industry Co., Ltd. | 30.36
Megalith Industrial Group Co., Ltd. | Shandong Huasheng Rubber Co., Ltd. | 30.36
Megalith Industrial Group Co., Ltd. | Shandong Kaixuan Rubber Co., Ltd. | 30.36
Megalith Industrial Group Co., Ltd. | Sichuan Kalevei Technology Co., Ltd. | 30.36
Megalith Industrial Group Co., Ltd. | Xingyuan Tire Group Co., Ltd. | 30.36
Michelin Asia-Pacific Export (HK) Limited | Michelin Shenyang Tire Co., Ltd. | 30.36
Newland Tyre Int'l Limited | Shandong Hawk International Rubber Industry Co., Ltd. | 30.36
Noble Manufacture Co., Ltd. | Qingdao Hongchi Tyre Co., Ltd. | 30.36
Philixx Tyres and Accessories Limited | Shandong Huasheng Rubber Co., Ltd. | 30.36
Philixx Tyres and Accessories Limited | Xingyuan Tire Group Co., Ltd. | 30.36
Philixx Tyres and Accessories Limited | Shandong Vheal Group Co., Ltd. | 30.36
Q&J Industrial Group Co., Limited | Chaoyang Langma Co., Ltd. | 30.36
Q&J Industrial Group Co., Limited | Qiangdao Huanghai Rubber Co., Ltd. | 30.36
Q&J Industrial Group Co., Limited | Shandong Hongsheng Rubber Co., Ltd. | 30.36
Q&J Industrial Group Co., Limited | Shandong Huasheng Rubber Co., Ltd. | 30.36
Q&J Industrial Group Co., Limited | Shandong Xingyuan Group | 30.36
Q&J Industrial Group Co., Limited | Sichuan Kailiwei Technology Co., Ltd. | 30.36
Qingdao Au-Shine Group Co., Ltd. | Shandong Gulun Rubber Co., Ltd. | 30.36
Qingdao Champion International Trading Co., Ltd. | Shandong Cocrea Tyre Co., Ltd. | 30.36
Qingdao Champion International Trading Co., Ltd. | Shandong Huasheng Rubber Co., Ltd. | 30.36
Qingdao Champion International Trading Co., Ltd. | Zhucheng Sinoroad Rubber Co., Ltd. | 30.36
Qingdao Fudong Tyre Co., Ltd. | Qingdao Fudong Tyre Co., Ltd. | 30.36
Qingdao Fudong Tyre Co., Ltd. | Qingdao Xiyingmen Double Camel Tyre Co., Ltd. | 30.36
Qingdao Fullrun Tyre Corp. Ltd. | Aeolus Tyre Co., Ltd. | 30.36
Qingdao Fullrun Tyre Corp. Ltd. | Chaoyang Long March Tyre Co., Ltd. | 30.36
Qingdao Fullrun Tyre Corp. Ltd. | Chonche Auto Double Happiness Tyre Corp. Ltd. | 30.36
Qingdao Fullrun Tyre Corp. Ltd. | Double Coin Holdings Ltd. | 30.36
Qingdao Fullrun Tyre Corp. Ltd. | Hangzhou Zhongce Rubber Co., Ltd. | 30.36
Qingdao Fullrun Tyre Corp. Ltd. | Qingdao Yellow Sea Rubber Co., Ltd. | 30.36
Qingdao Fullrun Tyre Corp. Ltd. | Qingdao Doublestar Tire Industrial Co., Ltd. | 30.36
Qingdao Fullrun Tyre Corp. Ltd. | Shandong Xingyuan International Trading Co., Ltd. | 30.36
Qingdao Ge Rui Da Rubber Co., Ltd. | Qingdao Ge Rui Da Rubber Co., Ltd. | 30.36
Qingdao Honghua Tyre Factory | Qingdao Honghua Tyre Factory | 30.36
Qingdao Jinhaoyang International Co., Ltd. | Double Coin Holdings Ltd. | 30.36
Qingdao Jinhaoyang International Co., Ltd. | Qingdao Fudong Tyre Co., Ltd. | 30.36
Qingdao Jinhaoyang International Co., Ltd. | Shaanxi Yanchang Petroleum Group Rubber Co., Ltd. | 30.36
Qingdao Jinhaoyang International Co., Ltd. | Zhucheng Guoxin Rubber Co., Ltd. | 30.36
Qingdao Keter International Co., Ltd. | Beijing Landy Tire & Tech Co., Ltd. | 30.36
Qingdao Keter International Co., Ltd. | Chaoyang Long March Tyre Co., Ltd. | 30.36
Qingdao Keter International Co., Ltd. | Chonche Auto Double Happiness Tyre Corp. Ltd. | 30.36
Qingdao Keter International Co., Ltd. | Deruibo Tire Co., Ltd. | 30.36
Qingdao Keter International Co., Ltd. | Qingdao Doublestar Tire Industrial Co., Ltd. | 30.36
Qingdao Keter International Co., Ltd. | Shandong Huasheng Rubber Co., Ltd. | 30.36
Qingdao Keter International Co., Ltd. | Shandong Huge Rubber Co., Ltd. | 30.36
Qingdao Keter International Co., Ltd. | Shandong Kaixuan Rubber Co., Ltd. | 30.36
Qingdao Lakesea Tyre Co., Ltd. | Chaoyang Long March Tyre Co., Ltd. | 30.36
Qingdao Lakesea Tyre Co., Ltd. | Chonche Auto Double Happiness Tyre Corp. Ltd. | 30.36
Qingdao Lakesea Tyre Co., Ltd. | Doublestar Dongfeng Tyre Co., Ltd. | 30.36
Qingdao Lakesea Tyre Co., Ltd. | Qingdao Doublestar Tire Industrial Co., Ltd. | 30.36
Qingdao Lakesea Tyre Co., Ltd. | Qingdao Yellow Sea Rubber Co., Ltd. | 30.36
Qingdao Lakesea Tyre Co., Ltd. | Shandong Kaixuan Rubber Co., Ltd. | 30.36
Qingdao Lakesea Tyre Co., Ltd. | Shandong Xingyuan International Trading Co., Ltd. | 30.36
Qingdao Lakesea Tyre Co., Ltd. | Shandong Yinbao Tyre Group Co., Ltd. | 30.36
Qingdao Lakesea Tyre Co., Ltd. | Sichuan Kalevei Technology Co., Ltd. | 30.36
Qingdao Nama Industrial Co., Ltd. | Chaoyang Long March Tyre Co., Ltd. | 30.36
Qingdao Nama Industrial Co., Ltd. | China National Tyre And Rubber Guilin Co., Ltd. | 30.36
Qingdao Nama Industrial Co., Ltd. | Ningxia Shenzhou Tire Co., Ltd. | 30.36
Qingdao Nama Industrial Co., Ltd. | Qingdao Doublestar Tire Industrial Co., Ltd. | 30.36
Qingdao Nama Industrial Co., Ltd. | Shandong Hawk International Rubber Industry Co., Ltd. | 30.36
Qingdao Nama Industrial Co., Ltd. | Shandong Hengfeng Rubber & Plastic Co., Ltd. | 30.36
Qingdao Nama Industrial Co., Ltd. | Shandong Hengyu Science & Technology Co., Ltd. | 30.36
Qingdao Nama Industrial Co., Ltd. | Shandong Huasheng Rubber Co., Ltd. | 30.36
Qingdao Nama Industrial Co., Ltd. | Shandong Kaixuan Rubber Co., Ltd. | 30.36
Qingdao Nama Industrial Co., Ltd. | Shandong Wanda Boto Tyre Co., Ltd. | 30.36
Qingdao Nama Industrial Co., Ltd. | Shandong Wanshine Tyre Co., Ltd. | 30.36
Qingdao Odyking Tyre Co., Ltd. | Weifang Shunfuchang Rubber And Plastic Products Co., Ltd. | 30.36
Qingdao Qianzhen Tyre Co., Ltd. | Qingdao Qianzhen Tyre Co., Ltd. | 30.36
Qingdao Qizhou Rubber Co., Ltd. | Qingdao Qizhou Rubber Co., Ltd. | 30.36
Qingdao Rhino International Co., Ltd. | Dongying JinZheng Tyre Co., Ltd. | 30.36
Qingdao Rhino International Co., Ltd. | Qingdao Aonuo Group | 30.36
Qingdao Rhino International Co., Ltd. | Shandong Jinwangda Tire Co., Ltd. | 30.36
Qingdao Rhino International Co., Ltd. | Weihai Ping'an Tyre Co., Ltd. | 30.36
Qingdao Taihao Tyre Co., Ltd. | Qingdao Taihao Tyre Co., Ltd. | 30.36
Qingdao Tanco Tire Industrial & Commercial Co., Ltd. | Hebei Tianrui Rubber Co., Ltd. | 30.36
Qingdao Tanco Tire Industrial & Commercial Co., Ltd. | Shandong Hawk International Rubber Co., Ltd. | 30.36
Qingdao Tanco Tire Industrial & Commercial Co., Ltd. | Xingyuan Tires Group | 30.36
Qingdao Yellow Sea Rubber Co., Ltd. | Qingdao Yellow Sea Rubber Co., Ltd. | 30.36
Qingdao Yongdao International Trade Co., Ltd. | Aeolus Tyre Co., Ltd. | 30.36
Qingdao Yongdao International Trade Co., Ltd. | Bayi Rubber Co., Ltd. | 30.36
Qingdao Yongdao International Trade Co., Ltd. | Chonche Auto Double Happiness Tyre Corp. Ltd. | 30.36
Qingdao Yongdao International Trade Co., Ltd. | Double Coin Holdings Ltd. | 30.36
Qingdao Yongdao International Trade Co., Ltd. | Guizhou Tyre Co., Ltd. | 30.36
Qingdao Yongdao International Trade Co., Ltd. | Hangzhou Zhongce Rubber Co., Ltd. | 30.36
Qingdao Yongdao International Trade Co., Ltd. | Qingdao Doublestar Tire Industrial Co., Ltd. | 30.36
Qingdao Yongdao International Trade Co., Ltd. | Shandong Haohua Tire Co., Ltd. | 30.36
Qingdao Yongdao International Trade Co., Ltd. | Shandong Hawk International Rubber Industry Co., Ltd. | 30.36
Qingdao Yongdao International Trade Co., Ltd. | Shandong Hengfeng Rubber and Plastic Co., Ltd. | 30.36
Qingdao Yongdao International Trade Co., Ltd. | Shandong Hengyu Science & Technology Co., Ltd. | 30.36
Qingdao Yongdao International Trade Co., Ltd. | Shandong Huasheng Rubber Co., Ltd. | 30.36
Qingdao Yongdao International Trade Co., Ltd. | Shandong Kaixuan Rubber Co., Ltd. | 30.36
Qingdao Yongdao International Trade Co., Ltd. | Shandong Wosen Rubber Co., Ltd. | 30.36
Qingdao Yongdao International Trade Co., Ltd. | Shandong Yongtai Group Co., Ltd. | 30.36
Qingdao Yongdao International Trade Co., Ltd. | Shengtai Group Co., Ltd. | 30.36
Qingdao Yongdao International Trade Co., Ltd. | South China Tire & Rubber Co., Ltd. | 30.36
Qingdao Yongdao International Trade Co., Ltd. | Weifang Goldshield Tire Co., Ltd. | 30.36
Qingdao Yongdao International Trade Co., Ltd. | Weifang Shunfuchang Rubber & Plastic Products Co., Ltd. | 30.36
Qingdao Yongdao International Trade Co., Ltd. | Xingyuan Tire Group Co., Ltd. | 30.36
Rodeo Tire Ltd. | Shandong Province Sanli Tire Manufactured Co., Ltd. | 30.36
Rodeo Tire Ltd. | Sichuan Tyre & Rubber Co., Ltd. | 30.36
Rover Tire Co., Ltd. | Aeolus Tyre Co., Ltd | 30.36
Rover Tire Co., Ltd. | Dongying Fangxing Rubber Co., Ltd. | 30.36
Rover Tire Co., Ltd. | Double Coin Holdings Ltd. | 30.36
Rover Tire Co., Ltd. | Qingdao Doublestar Tire Industrial Co., Ltd. | 30.36
Rover Tire Co., Ltd. | Shandong Hengyu Science & Technology Co., Ltd. | 30.36
Rover Tire Co., Ltd. | Shandong Huasheng Rubber Co., Ltd. | 30.36
Rover Tire Co., Ltd. | Shandong Kaixuan Rubber Co., Ltd. | 30.36
Rover Tire Co., Ltd. | Shandong Longyue Rubber Co., Ltd. | 30.36
Rover Tire Co., Ltd. | Shandong Yongsheng Rubber Group Co., Ltd. | 30.36
Rover Tire Co., Ltd. | Wanli Group Trade Limited | 30.36
Rover Tire Co., Ltd. | Zhongce Rubber Group Company Limited | 30.36
Sailun Jinyu Group Co., Ltd. | Sailun Jinyu Group Co., Ltd. | 30.36
Sailun Jinyu Group Co., Ltd. | Shenyang Peace Radial Tyre Manufacturing Co., Ltd. | 30.36
Shandong Anchi Tyres Co., Ltd. | Shandong Anchi Tyres Co., Ltd. | 30.36
Shandong Haohua Tire Co., Ltd. | Shandong Haohua Tire Co., Ltd. | 30.36
Shandong Haoyu Rubber Co., Ltd. | Shandong Haoyu Rubber Co., Ltd. | 30.36
Shandong Hawk International Rubber Industry Co., Ltd. | Shandong Hawk International Rubber Industry Co., Ltd. | 30.36
Shandong Hengfeng Rubber & Plastic Co., Ltd. | Shandong Hengfeng Rubber & Plastic Co., Ltd. | 30.36
Shandong Hengyu Science & Technology Co., Ltd. | Shandong Hengyu Science & Technology Co., Ltd. | 30.36
Shandong Hengyu Science & Technology Co., Ltd. | Shandong Hengyu Rubber Co., Ltd. | 30.36
Shandong Homerun Tires Co., Ltd. | Good Friend Tyre Co., Ltd. | 30.36
Shandong Homerun Tires Co., Ltd. | Shandong Kaixuan Rubber Co., Ltd. | 30.36
Shandong Homerun Tires Co., Ltd. | Shandong Wosen Rubber Co., Ltd. | 30.36
Shandong Homerun Tires Co., Ltd. | Shandong Yongsheng Rubber Group Co., Ltd. | 30.36
Shandong Homerun Tires Co., Ltd. | Weifang Shunfuchang Rubber and Plastic Products Co., Ltd. | 30.36
Shandong Huasheng Rubber Co., Ltd. | Shandong Huasheng Rubber Co., Ltd. | 30.36
Shandong Hugerubber Co., Ltd. | Shandong Hugerubber Co., Ltd. | 30.36
Shandong Huitong Tyre Co., Ltd. | Shandong Huitong Tyre Co., Ltd. | 30.36
Shandong Kaixuan Rubber Co., Ltd. | Shandong Kaixuan Rubber Co., Ltd. | 30.36
Shandong Linglong Tyre Co., Ltd. | Shandong Linglong Tyre Co., Ltd. | 30.36
Shandong O'Green Tyres Co., Ltd. | Shandong O'Green Tyres Co., Ltd. | 30.36
Shandong Province Sanli Tire Manufactured Co., Ltd. | Shandong Province Sanli Tire Manufactured Co., Ltd. | 30.36
Shandong Sangong Rubber Co., Ltd. | Shandong Sangong Rubber Co., Ltd. | 30.36
Shandong Transtone Tyre Co., Ltd. | Shandong Haohua Tire Co., Ltd. | 30.36
Shandong Transtone Tyre Co., Ltd. | Shandong Hongyu Rubber Co., Ltd. | 30.36
Shandong Transtone Tyre Co., Ltd. | Shandong Kaixuan Rubber Co., Ltd. | 30.36
Shandong Transtone Tyre Co., Ltd. | Weifang Yuelong Rubber Co., Ltd. | 30.36
Shandong Vheal Group Co., Ltd. | Shandong Vheal Group Co., Ltd. | 30.36
Shandong Wanda Boto Tyre Co., Ltd. | Shandong Wanda Boto Tyre Co., Ltd. | 30.36
Shandong Wanshine Tire Co., Ltd. | Shandong Wanshine Tire Co., Ltd. | 30.36
Shandong Xingyuan Tire Group Co., Ltd. | Shandong Xingyuan Tire Group Co., Ltd. | 30.36
Shandong Yinbao Tyre Group Co., Ltd. | Shandong Yinbao Tyre Group Co., Ltd. | 30.36
Shandong Yongfeng Tyres Co., Ltd. | Shandong Yongfeng Tyres Co., Ltd. | 30.36
Shandong Yongsheng Rubber Group Co., Ltd. | Shandong Yongsheng Rubber Group Co., Ltd. | 30.36
Shandong Yongtai Group Co., Ltd. | Shandong Yongtai Group Co., Ltd. | 30.36
Shanghai Durotyre International Trading Co., Ltd. | Chaoyang Long March Tyre Co., Ltd. | 30.36
Shanghai Durotyre International Trading Co., Ltd. | Double Happiness Tyre Industrial Co., Ltd. | 30.36
Shengtai Group Co., Ltd. | Shengtai Group Co., Ltd. | 30.36
Shengtai Group Co., Ltd. | Shandong Zhushenghua Rubber Co., Ltd. | 30.36
Shenzhen Zhongjin Import & Export Co., Ltd. | Hefei Wanli Tire Co., Ltd. | 30.36
Shenzhen Zhongjin Import & Export Co., Ltd. | South China Tire & Rubber Co. | 30.36
Shenzhen Zhongjin Import & Export Co., Ltd. | Weifang Shunfuchang Rubber And Plastics Products Co., Ltd. | 30.36
Shifeng Juxing Tire Co., Ltd. | Shifeng Juxing Tire Co., Ltd. | 30.36
Shuma Tyre International (Qingdao) Co., Ltd. | Shandong Wanshine Tire Co., Ltd. | 30.36
Sichuan Kalevei Technology Co., Ltd. | Sichuan Kalevei Technology Co., Ltd. | 30.36
Sinotyre International Group Co., Ltd. | Dongying City Fangxing Rubber Co., Ltd. | 30.36
Sinotyre International Group Co., Ltd. | Shandong Hawk International Rubber Industry Co., Ltd. | 30.36
Sportrak Tire Group Limited | Bayi Rubber Co., Ltd. | 30.36
Sportrak Tire Group Limited | Shaanxi Yanchang Petroleum Group Rubber Co., Ltd. | 30.36
Sportrak Tire Group Limited | Shandong Hawk International Rubber Industry Co., Ltd. | 30.36
Tianjin Leviathan International Trade Co., Ltd. | NDI Tire (Qingdao) Co., Ltd. | 30.36
Tianjin Leviathan International Trade Co., Ltd. | Qingdao Nama Industrial Co., Ltd. | 30.36
Tianjin Leviathan International Trade Co., Ltd. | Shandong Haohua Tire Co., Ltd. | 30.36
Tianjin Leviathan International Trade Co., Ltd. | Shandong Hawk International Rubber Industry Co., Ltd. | 30.36
Tianjin Leviathan International Trade Co., Ltd. | Xingyuan Tire Group Co., Ltd. | 30.36
Top Tyre Industry Co., Limited | Shandong Hawk International Rubber Industry Co., Ltd. | 30.36
Toyo Tire (Zhucheng) Co., Ltd. | Toyo Tire (Zhucheng) Co., Ltd. | 30.36
Triangle Tyre Co., Ltd. | Triangle Tyre Co., Ltd. | 30.36
Tyrechamp Group Co., Limited | South China Tire & Rubber Co., Ltd. | 30.36
Tyrechamp Group Co., Limited | Zhongce Rubber Group Company Limited | 30.36
Wanli Group Trade Limited | South China Tire & Rubber Co., Ltd., | 30.36
Weifang Shunfuchang Rubber And Plastic Products Co., Ltd. | Weifang Shunfuchang Rubber And Plastic Products Co., Ltd. | 30.36
Weihai Ping'an Tyre Co., Ltd. | Weihai Ping'an Tyre Co., Ltd. | 30.36
Weihai Zhongwei Rubber Co., Ltd. | Weihai Zhongwei Rubber Co., Ltd. | 30.36
Wendeng Sanfeng Tyre Co., Ltd. | Wendeng Sanfeng Tyre Co., Ltd. | 30.36
Xuzhou Xugong Tyres Co., Ltd. | Xuzhou Xugong Tyres Co., Ltd. | 30.36
Xuzhou Xugong Tyres Co., Ltd. | Armour Rubber Company Ltd. | 30.36
Yokohama Rubber Co., Ltd. | Suzhou Yokohama Tire Co., Ltd. | 30.36
Yongsheng Group Co., Ltd. | Shandong Yongsheng Rubber Group Co., Ltd. | 30.36
Zhongce Rubber Group Co., Ltd. | Zhongce Rubber Group Co., Ltd. | 30.36
Zhucheng Guoxin Rubber Co., Ltd. | Zhucheng Guoxin Rubber Co., Ltd. | 30.36
PRC-Wide Entity |  | 30.36

Disclosure

We intend to disclose the calculations performed to parties in this proceeding within five days after public announcement of the amended preliminary determination in accordance with 19 CFR 351.224(b).

U.S. International Trade Commission Notification

In accordance with section 733(f) of the Act, we will notify the U.S. International Trade Commission of our amended preliminary determination.

This amended preliminary determination is issued and published in accordance with sections 733(f) and 777(i)(1) of the Act and 19 CFR 351.224(e).

Dated: October 6, 2016.
Paul Piquado,
Assistant Secretary for Enforcement and Compliance.

Appendix

Scope of the Investigation

The scope of the investigation covers truck and bus tires. Truck and bus tires are new pneumatic tires, of rubber, with a truck or bus size designation. Truck and bus tires covered by this investigation may be tube-type, tubeless, radial, or non-radial.

Subject tires have, at the time of importation, the symbol “DOT” on the sidewall, certifying that the tire conforms to applicable motor vehicle safety standards. Subject tires may also have one of the following suffixes in their tire size designation, which also appear on the sidewall of the tire:

TR—Identifies tires for service on trucks or buses to differentiate them from similarly sized passenger car and light truck tires;

MH—Identifies tires for mobile homes; and

HC—Identifies a 17.5 inch rim diameter code for use on low platform trailers.

All tires with a “TR,” “MH,” or “HC” suffix in their size designations are covered by this investigation regardless of their intended use.

In addition, all tires that lack one of the above suffix markings are included in the scope, regardless of their intended use, as long as the tire is of a size that is among the numerical size designations listed in the “Truck-Bus” section of the Tire and Rim Association Year Book, as updated annually, unless the tire falls within one of the specific exclusions set out below.

Truck and bus tires, whether or not mounted on wheels or rims, are included in the scope. However, if a subject tire is imported mounted on a wheel or rim, only the tire is covered by the scope. Subject merchandise includes truck and bus tires produced in the subject country whether mounted on wheels or rims in the subject country or in a third country. Truck and bus tires are covered whether or not they are accompanied by other parts, e.g., a wheel, rim, axle parts, bolts, nuts, etc. Truck and bus tires that enter attached to a vehicle are not covered by the scope.

Specifically excluded from the scope of this investigation are the following types of tires: (1) Pneumatic tires, of rubber, that are not new, including recycled and retreaded tires; and (2) non-pneumatic tires, such as solid rubber tires.

The subject merchandise is currently classifiable under Harmonized Tariff Schedule of the United States (HTSUS) subheadings: 4011.20.1015 and 4011.20.5020. Tires meeting the scope description may also enter under the following HTSUS subheadings: 4011.99.4520, 4011.99.4590, 4011.99.8520, 4011.99.8590, 8708.70.4530, 8708.70.6030, and 8708.70.6060. On August 26, 2016, the Department included HTSUS subheadings 4011.69.0020, 4011.69.0090, and 8716.90.5059 to the case reference files, pursuant to requests by U.S. Customs and Border Protection and the petitioner.⁹

⁹ See Memorandum to the File entitled, “Requests from Customs and Border Protection and the Petitioner to Update the ACE Case Reference File,” dated August 26, 2016.

While HTSUS subheadings are provided for convenience and for customs purposes, the written description of the subject merchandise is dispositive.

[FR Doc. 2016-24815 Filed 10-13-16; 8:45 am]

BILLING CODE 3510-DS-P